DEPARTMENT OF HOMELAND SECURITY

Federal Emergency Management Agency

[Docket ID FEMA-2013-0002; Internal Agency Docket No. FEMA-B-1290]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Title 44, Part 65 of the Code of Federal Regulations (44 CFR Part 65). The LOMR will be used by insurance agents and others to calculate appropriate flood insurance premium rates for new buildings and the contents of those buildings. For rating purposes, the currently effective community number is shown in the table below and must be used for all new policies and renewals.

DATES: These flood hazard determinations will become effective on the dates listed in the table below and revise the FIRM panels and FIS report in effect prior to this determination for the listed communities.

From the date of the second publication of notification of these changes in a newspaper of local circulation, any person has ninety (90) days in which to request through the community that the Deputy Associate Administrator for Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at www.msc.fema.gov for comparison.

Submit comments and/or appeals to the Chief Executive Officer of the community as listed in the table below.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR Part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at www.msc.fema.gov for comparison.

State and county | Location and case No. | Chief executive officer of community | Community map repository | Online location of letter of map revision | Effective date of modification | Community No.
New Mexico: Sandoval | City of Rio Rancho (12-06-2669P) | The Honorable Thomas E. Swisstack, Mayor, City of Rio Rancho, 3200 Civic Center Circle Northeast, Rio Rancho, NM 78144 | City Hall, 3200 Civic Center Circle Northeast, Rio Rancho, NM 87144 | http://www.rampp-team.com/lomrs.htm | March 7, 2013 | 350146
Pennsylvania:
Cumberland | Borough of Shiremanstown (13-03-0052P) | The Honorable James E. Reagan, Mayor, Borough of Shiremanstown, 1 Park Lane, Shiremanstown, PA 17011 | 1 Park Lane, Shiremanstown, PA 17011 | http://www.rampp-team.com/lomrs.htm | March 14, 2013 | 420369
Cumberland | Township of Hampden (13-03-0052P) | The Honorable Al Bienstock, President, Hampden Township Board of Commissioners, 230 South Sporting Hill Road, Mechanicsburg, PA 17050 | Township of Hampden, 230 South Sporting Hill Road, Mechanicsburg, PA 17050 | http://www.rampp-team.com/lomrs.htm | March 14, 2013 | 420360
Cumberland | Township of Lower Allen (13-03-0052P) | The Honorable H. Edward Black, President, Lower Allen Township Board of Commissioners, 2233 Gettysburg Road, Camp Hill, PA 17011 | Township of Lower Allen, 2233 Gettysburg Road, Camp Hill, PA 17011 | http://www.rampp-team.com/lomrs.htm | March 14, 2013 | 421016
Northumberland | Borough of Snydertown (12-03-1407P) | The Honorable Larry Wary, President, Borough of Snydertown Council, 36 South Main Street, Snydertown, PA 17877 | Borough Building, 36 South Main Street, Snydertown, PA 17877 | http://www.rampp-team.com/lomrs.htm | March 11, 2013 | 420742
Texas:
Bexar | City of San Antonio (12-06-1279P) | The Honorable Julian Castro, Mayor, City of San Antonio, 100 Military Plaza, San Antonio, TX 78205 | Municipal Plaza, 114 West Commerce, 7th Floor, San Antonio, TX 78205 | http://www.rampp-team.com/lomrs.htm | March 7, 2013 | 480045
Bexar | Unincorporated areas of Bexar County (12-06-2065P) | The Honorable Nelson W. Wolff, Bexar County Judge, Paul Elizondo Tower, 101 West Nueva Street, 10th Floor, San Antonio, TX 78205 | Bexar County Public Works Department, 233 North Pecos-La Trinidad, Suite 420, San Antonio, TX 78207 | http://www.rampp-team.com/lomrs.htm | February 19, 2013 | 480035
Bexar | Unincorporated areas of Bexar County, (12-06-2751P) | The Honorable Nelson W. Wolff, Bexar County Judge, Paul Elizondo Tower, 101 West Nueva Street, 10th Floor, San Antonio, TX 78205 | Bexar County Public Works Department, 233 North Pecos-La Trinidad, Suite 420, San Antonio, TX 78207 | http://www.rampp-team.com/lomrs.htm | March 1, 2013 | 480035
Collin | City of Allen (12-06-1794P) | The Honorable Stephen Terrell, Mayor, City of Allen, 305 Century Parkway, 1st Floor, Allen, TX 75013 | City Hall, Engineering Department, 305 Century Parkway, 1st Floor, Allen, TX 75013 | http://www.rampp-team.com/lomrs.htm | February 8, 2013 | 480131
Collin | City of Frisco (12-06-2035P) | The Honorable Maher Maso, Mayor, City of Frisco, 6101 Frisco Square Boulevard, Frisco, TX 75034 | City Hall, 6101 Frisco Square Boulevard, 3rd Floor, Frisco, TX 75034 | http://www.rampp-team.com/lomrs.htm | February 4, 2013 | 480134
Collin | City of McKinney (12-06-1512P) | The Honorable Brian Loughmiller, Mayor, City of McKinney, 222 North Tennessee Street, McKinney, TX 75069 | 222 North Tennessee Street, McKinney, TX 75069 | http://www.rampp-team.com/lomrs.htm | February 22, 2013 | 480135
Dallas | City of Garland (12-06-1648P) | The Honorable Ronald E. Jones, Mayor, City of Garland, 200 North 5th Street, Garland, TX 75040 | 800 Main Street, Garland, TX 75040 | http://www.rampp-team.com/lomrs.htm | March 18, 2013 | 485471
Dallas | City of Rowlett (12-06-1648P) | The Honorable Todd W. Gottel, Mayor, City of Rowlett, 4000 Main Street, Rowlett, TX 75088 | City Hall, 4000 Main Street, Rowlett, TX 75088 | http://www.rampp-team.com/lomrs.htm | March 18, 2013 | 480185
Dallas | City of Sachse (12-06-1648P) | The Honorable Mike Felix, Mayor, City of Sachse, 3815 Sachse Road, Building B, Sachse, TX 75048 | Community Development Department, 3815 Sachse Road, Building B, Sachse, TX 75048 | http://www.rampp-team.com/lomrs.htm | March 18, 2013 | 480186
Denton | Unincorporated areas of Denton County (12-06-1316P) | The Honorable Mary Horn, Denton County Judge, 110 West Hickory Street, 2nd Floor, Denton, TX 76201 | Denton County Government Center, 1505 East McKinney Street, Suite 175, Denton, TX 76209 | http://www.rampp-team.com/lomrs.htm | March 18, 2013 | 480774
Harris | City of Houston (12-06-3459P) | The Honorable Annise D. Parker, Mayor, City of Houston, 900 Bagby Street, Houston, TX 77002 | City Hall, 901 Bagby Street, Houston, TX 77002 | http://www.rampp-team.com/lomrs.htm | March 4, 2013 | 480296
Harris | City of Southside Place (12-06-3459P) | The Honorable Pat L. Patterson, Mayor, City of Southside Place, 6309 Edloe Avenue, Houston, TX 77005 | City Hall, 6309 Edloe Avenue, Houston, TX 77005 | http://www.rampp-team.com/lomrs.htm | March 4, 2013 | 480312
Harris | City of West University Place (12-06-3459P) | The Honorable Bob R. Fry, Mayor, City of West University Place, 3800 University Boulevard, West University Place, TX 77005 | Public Works Development Services, 3826 Amherst Street, West University Place, TX 77005 | http://www.rampp-team.com/lomrs.htm | March 4, 2013 | 480318
Harris | Unincorporated areas of Harris County (12-06-2603P) | The Honorable Ed Emmett, Harris County Judge, 1001 Preston, Suite 911, Houston, TX 77002 | 10555 Northwest Freeway, Suite 120, Houston, TX 77092 | http://www.rampp-team.com/lomrs.htm | January 28, 2013 | 480287
Harris | Unincorporated areas of Harris County (12-06-3003P) | The Honorable Ed Emmett, Harris County Judge, 1001 Preston, Suite 911, Houston, TX 77002 | 10555 Northwest Freeway, Suite 120, Houston, TX 77092 | http://www.rampp-team.com/lomrs.htm | March 7, 2013 | 480287
Lubbock | City of Lubbock (12-06-1237P) | The Honorable Glen Robertson, Mayor, City of Lubbock, P.O. Box 2000, Lubbock, TX 79457 | City Hall, 1625 13th Street, Lubbock, TX 79401 | http://www.rampp-team.com/lomrs.htm | March 7, 2013 | 480452
Lubbock | Unincorporated areas of Lubbock County (12-06-1237P) | The Honorable Tom Head, Lubbock County Judge, 904 Broadway Street, Suite 101, Lubbock, TX 79401 | Lubbock County Courthouse, 904 Broadway Street, Lubbock, TX 79401 | http://www.rampp-team.com/lomrs.htm | March 7, 2013 | 480915
Tarrant | City of Fort Worth (12-06-1169P) | The Honorable Betsy Price, Mayor, City of Fort Worth, 1000 Throckmorton Street, Fort Worth, TX 76102 | 1000 Throckmorton Street, Fort Worth, TX 76102 | http://www.rampp-team.com/lomrs.htm | January 14, 2013 | 480596
Tarrant | Town of Westlake (12-06-1796P) | The Honorable Laura Wheat, Mayor, Town of Westlake, 3 Village Circle, Suite 202, Westlake, TX 76262 | 3 Village Circle, Suite 202, Westlake, TX 76262 | http://www.rampp-team.com/lomrs.htm | January 14, 2013 | 480614
Williamson | Unincorporated areas of Williamson County (12-06-1129P) | The Honorable Dan A. Gattis, Williamson County Judge, 710 South Main Street, Suite 101, Georgetown, TX 78626 | Williamson County Courthouse, 710 South Main Street, Georgetown, TX 78626 | http://www.rampp-team.com/lomrs.htm | January 31, 2013 | 481079
Wilson | City of Floresville (12-06-1541P) | The Honorable Daniel M. Tejada, Mayor, City of Floresville, 1120 D Street, Floresville, TX 78114 | City Hall, 1120 D Street, Floresville, TX 78114 | http://www.rampp-team.com/lomrs.htm | February 21, 2013 | 480671
Virginia:
City of Richmond | Independent City of Richmond (11-03-1134P) | The Honorable Dwight C. Jones, Mayor, City of Richmond, 900 East Broad Street, Suite 201, Richmond, VA 23219 | Department of Public Works, 900 East Broad Street, Suite 704, Richmond, VA 23219 | http://www.rampp-team.com/lomrs.htm | February 4, 2013 | 510129
Loudoun | Town of Leesburg (12-03-0044P) | The Honorable Kristen C. Umstattd, Mayor, Town of Leesburg, 25 West Market Street, Leesburg, VA 20176 | Town Hall, 25 West Market Street, Leesburg, VA 20176 | http://www.rampp-team.com/lomrs.htm | January 31, 2013 | 510091
West Virginia: Marion | Unincorporated areas of Marion County (11-03-2271P) | The Honorable Burley Tennant, President, Marion County Board of Commissioners, 200 Jackson Street, Room 403, Fairmont, WV 26554 | Marion County Courthouse, Planning Department, 200 Jackson Street, Fairmont, WV 26554 | http://www.rampp-team.com/lomrs.htm | January 31, 2013 | 540097

(Catalog of Federal Domestic Assistance No. 97.022, “Flood Insurance.”)

James A. Walke,
Acting Deputy Associate Administrator for Mitigation, Department of Homeland Security, Federal Emergency Management Agency.

[FR Doc. 2013-02440 Filed 2-4-13; 8:45 am]

BILLING CODE 9110-12-P